DEPARTMENT OF HOMELAND SECURITY

Coast Guard

33 CFR Part 117

[Docket No. USCG-2018-0272]

Drawbridge Operation Regulation; Grassy Sound Channel, Middle Township, NJ

AGENCY: Coast Guard, DHS.

ACTION: Notice of deviation from drawbridge regulation.

SUMMARY: The Coast Guard has issued a temporary deviation from the operating schedule that governs the Grassy Sound Channel (Ocean Drive) Bridge across Grassy Sound Channel, mile 1.0, at Middle Township, NJ. The deviation is necessary to accommodate the free movement of pedestrians and vehicles during the 2018 “MudHen Half Marathon”. This deviation allows the drawbridge to remain in the closed-to-navigation position.

DATES: This deviation is effective from 7:30 a.m. to 11 a.m. on April 29, 2018.

ADDRESSES: The docket for this deviation, [USCG-2018-0272], is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard; telephone (757) 398-6587, email Mickey.D.Sanders2@uscg.mil.

SUPPLEMENTARY INFORMATION: The event director, DelMoSports LLC, with approval from the Cape May County Bridge Commission, who owns and operates the Grassy Sound Channel (Ocean Drive) Bridge, across Grassy Sound Channel, mile 1.0, at Middle Township, NJ, requested a temporary deviation from the current operating regulations to accommodate the free movement of pedestrians and vehicles during the 2018 “MudHen Half Marathon”.

The current operating schedule is set out in 33 CFR 117.721. Under this temporary deviation, the drawbridge will be maintained in the closed-to-navigation position from 7:30 a.m. to 11 a.m. on April 29, 2018. The Grassy Sound Channel is used by a variety of vessels including small commercial vessels and recreational vessels. The Coast Guard has carefully considered the nature and volume of vessel traffic on the waterway in publishing this temporary deviation.

Vessels able to pass through the bridge in the closed position may do so at anytime. The bridge will be able to open for emergencies and there is no immediate alternate route for vessels unable to pass through the bridge in the closed position. The Coast Guard will also inform the users of the waterways through our Local and Broadcast Notice to Mariners of the change in operating schedule for the bridge so that vessel operators can arrange their transits to minimize any impacts caused by this temporary deviation.

In accordance with 33 CFR 117.35(e), the drawbridge must return to its regular operating schedule immediately at the end of the effective period of this temporary deviation. This deviation from the operating regulations is authorized under 33 CFR 117.35.

Dated: April 5, 2018.
Hal R. Pitts,
Bridge Program Manager, Fifth Coast Guard District.

[FR Doc. 2018-07262 Filed 4-9-18; 8:45 am]

BILLING CODE 9110-04-P